DEPARTMENT OF THE INTERIOR

National Park Service

Notice of Inventory Completion: Wisconsin Historical Society, Museum Division, Madison, WI

AGENCY: National Park Service, Interior.

ACTION: Notice.

Notice is here given in accordance with the Native American Graves Protection and Repatriation Act (NAGPRA), 25 U.S.C. 3003, of the completion of an inventory of human remains in the possession of the Wisconsin Historical Society, Museum Division (aka State Historical Society of Wisconsin), Madison, WI. The human remains were removed from the Bell Site, Winnebago County, WI.

This notice is published as part of the National Park Service's administrative responsibilities under NAGPRA, 25 U.S.C. 3003(d)(3). The determinations in this notice are the sole responsibility of the museum, institution, or Federal agency that has control of the Native American human remains. The National Park Service is not responsible for the determinations in this notice.

An assessment of the human remains was made by the Wisconsin Historical Museum professional staff in consultation with representatives of the Sac & Fox Tribe of the Mississippi in Iowa.

In 1959, human remains representing a minimum of one individual were removed from a grave at the Bell Site, 47-Wn-0009, in Winnebago County, WI, during archeological excavations. The excavations were conducted by the Wisconsin Historical Society, the Wisconsin Archaeological Survey, and the Oshkosh Public Museum, all under the supervision of Warren Wittry. No known individual was identified. No associated funerary objects are present.

According to historical and archeological records, the Bell Site is the location of the historic Grand Village of the Meskwaki Nation, dating from approximately A.D. 1680 to 1730. Officials at the Wisconsin Historical Museum have determined that the human remains described above can be directly associated with the Sac & Fox Tribe of the Mississippi in Iowa, as the majority of the Meskwaki Nation resides in Iowa.

Officials of the Wisconsin Historical Society have determined that, pursuant to 25 U.S.C. 3001(9), the human remains described above represent the physical remains of one individual of Native American ancestry. Officials of the Wisconsin Historical Society also have determined that, pursuant to 25 U.S.C. 3001(2), there is a relationship of shared group identity that can be reasonably traced between the Native American human remains and the Sac & Fox Tribe of the Mississippi in Iowa.

Representatives of any other Indian tribe that believes itself to be culturally affiliated with the human remains should contact Jennifer L. Kolb, Wisconsin Historical Museum, 30 N. Carroll St., Madison, WI 53703, telephone (608) 261-2461, before June 3, 2010. Repatriation of the human remains to the Sac & Fox Tribe of the Mississippi in Iowa may proceed after that date if no additional claimants come forward.

The Wisconsin Historical Society is responsible for notifying the Sac & Fox Tribe of the Mississippi in Iowa that this notice has been published.

Dated: April 12, 2010.
Sherry Hutt,
Manager, National NAGPRA Program.

[FR Doc. 2010-10380 Filed 5-3-10; 8:45 am]

BILLING CODE 4312-50-S